DEPARTMENT OF LABOR

Occupational Safety and Health Administration

[Docket No. GE2003-1]

Request for Comments on the Draft Ergonomics for the Prevention of Musculoskeletal Disorders: Guidelines for Retail Grocery Stores

AGENCY: Occupational Safety and Health Administration (OSHA); Department of Labor.

ACTION: Request for comments.

SUMMARY: The Department of Labor is inviting comments on its draft Ergonomics for the Prevention of Musculoskeletal Disorders: Guidelines for Retail Grocery Stores (draft guidelines). The draft guidelines are available on OSHA's Web site and through its publications office. Interested persons may submit written or electronic comments on the draft guidelines. The agency will also hold a stakeholder meeting where the public is invited to express its views on the draft guidelines.

DATES: Written Comments: Comments must be submitted by the following dates:

Hard Copy: You must submit your comments (postmarked or sent) by July 8, 2003.

Facsimile and electronic transmission: You must submit your comments by July 8, 2003.

(Please see the SUPPLEMENTARY INFORMATION below for additional information on submitting comments.)

Stakeholder meeting: OSHA will hold a one-day stakeholder meeting in the Washington, DC metropolitan area to discuss the draft guidelines. OSHA will announce the exact location and date of the stakeholder meeting prior to the close of the comment period. OSHA requests that interested parties submit their intention to participate in the stakeholder meeting through express delivery, hand delivery, messenger service, fax or electronic means by July 8, 2003.

ADDRESSES:

I. Submission of Comments and Intention To Participate in Stakeholder Meeting

Regular mail, express delivery, hand-delivery, and messenger service: You must submit three copies of your comments and attachments to the OSHA Docket Office, Docket No. GE2003-1, Room N-2625, U.S. Department of Labor, 200 Constitution Avenue, NW., Washington, DC 20210, telephone (202) 693-2350 (OSHA's TTY number is (877) 889-5627). The OSHA Docket Office and the Department of Labor hours of operation are 8:15 a.m. to 4:45 p.m., E.S.T. You must submit one copy of your intent to participate in the stakeholder meeting by express delivery, hand delivery, or messenger service to the above address.

Facsimile: If your comments, including any attachments, are 10 pages or fewer, you may fax them to the OSHA Docket Office at (202) 693-1648. You must include the docket number of this document, Docket No. GE2003-1, in your comments. You may also fax your intention to participate in the stakeholder meeting.

Electronic: You may submit comments (but not attachments) and your intention to participate in the stakeholder meeting through the Internet at http://ecomments.osha.gov/. (Please see the SUPPLEMENTARY INFORMATION below for additional information on submitting comments.)

II. Obtaining Copies of the Draft Guidelines

You can download the draft guidelines for the retail grocery industry from OSHA's Web site at www.osha.gov. A printed copy of the draft guidelines is available from the OSHA Office of Publications, Room N-3101, U.S. Department of Labor, 200 Constitution Avenue, NW., Washington, DC 20210, or by telephone at (800) 321-OSHA (6742). You may fax your request for a copy of the draft guidelines to (202) 693-2498.

FOR FURTHER INFORMATION CONTACT: Steven F. Witt, OSHA Directorate of Standards and Guidance, Room N-3718, U.S. Department of Labor, 200 Constitution Avenue, NW., Washington, DC 20210, telephone (202) 693-1950.

SUPPLEMENTARY INFORMATION:

I. Submission of Comments and Internet Access to Comments

You may submit comments in response to this document by (1) hard copy, (2) fax transmission (facsimile), or (3) electronically through the OSHA Web site. Please note that you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments and intentions to participate in the stakeholder meeting by regular mail. Please contact the OSHA Docket Office at (202) 693-2350 (TTY (877) 889-5627) for information about security procedures concerning the delivery of materials by express delivery, hand delivery and messenger service.

All comments and submissions will be available for inspection and copying at the OSHA Docket Office at the above address. Comments and submissions will be posted on OSHA's Web site at http://www.osha.gov. OSHA cautions you about submitting personal information such as social security numbers, date of birth, etc. Contact the OSHA Docket Office at (202) 693-2350 (TTY (877) 889-5627) for information about materials not available through the OSHA Web site and for assistance in using the Web site to locate docket submissions.

OSHA is providing the public with 60 days to provide comments on the draft retail grocery store ergonomics guidelines. During the development of the nursing home ergonomics guidelines (the final version was published march 13, 2003), the agency provided 30 days for comment, then extended the comment period for an additional 30 days at the request of several stakeholders. The 60-day period provided adequate time for the public to provide comments, so OSHA believes that allowing 60 days for the public to comment on the draft retail grocery guidelines is adequate.

II. Background

On April 5, 2002, the Department of Labor announced a four-pronged comprehensive approach for addressing musculoskeletal disorders (MSDs), which calls for OSHA to develop industry- or task-specific guidelines. OSHA's second industry-specific guidelines address ergonomic concerns in retail grocery stores and supercenters (combined full-line supermarket and discount merchandisers). While other business operations, such as distribution centers, banks, post offices, or other retail or wholesale operations may also be located in grocery stores, these guidelines are not intended to apply to these other businesses. The guidelines are also not intended to apply to other retail and distribution operations, such as warehouses or convenience stores.

The draft guidelines contain an introduction and two main sections. The introduction provides an overview of MSDs in retail grocery stores. It also explains the role of ergonomics in reducing the incidence of these injuries. A section entitled “A Process for Protecting Workers” describes a process for developing and implementing a strategy for analyzing the workplace, implementing ergonomic solutions, training, addressing reports of injuries, and evaluating progress.

The Implementing Solutions section describes examples of ergonomic solutions that may be used by grocery stores to control exposure to ergonomic risk factors in grocery stores. The Implementing Solutions section includes general corrective actions, followed by solutions for certain grocery store departments, including:

• Stocking,

• Bakery,

• Produce, and

• Meat department.

The draft guidelines finish with a list of references and sources of additional information grocery store managers can use to help them with their ergonomic efforts.

OSHA encourages interested parties to comment on all aspects of the draft guidelines. The agency is particularly interested in any information about successful ergonomics efforts, and individual ergonomic interventions, that the grocery store industry has used to address ergonomic concerns.

III. Stakeholder Meeting

Following the close of the comment period, OSHA will hold a stakeholder meeting in the Washington, DC metropolitan area during the week of July 28, 2003. The agency will announce the exact date and location of the stakeholder meeting at a later date.

This notice was prepared under the direction of John L. Henshaw, Assistant Secretary for Occupational Safety and Health. It is issued under sections 4 and 8 of the Occupational Safety and Health Act of 1970 (29 U.S.C. 653, 657).

Issued at Washington, DC, this 6th day of May, 2003.
John L. Henshaw,
Assistant Secretary of Labor.

[FR Doc. 03-11562 Filed 5-8-03; 8:45 am]

BILLING CODE 4510-26-M